DEPARTMENT OF EDUCATION

National Educational Research Policy and Priorities Board; Quarterly Meeting

AGENCY: National Educational Research Policy and Priorities Board; Education.

ACTION: Notice of partially closed meeting.

SUMMARY: This notice sets forth the schedule and proposed agenda of a forthcoming quarterly meeting of the National Educational Research Policy and Priorities Board. Notice of this meeting is required under section 10(a)(2) of the Federal Advisory Committee Act. This document is intended to notify the general public of their opportunity to attend the open portions of the meeting. Individuals who will need accommodations for a disability in order to attend the meeting (i.e., interpreting services, assistive listening devices, materials in alternative format) should notify Thelma Leenhouts at (202) 219-2065 by no later than September 11. We will attempt to meet requests after this data, but cannot guarantee availability of the requested accommodation. The meeting site is accessible to individuals with disabilities.

DATES: September 22, 2000.

TIME: 9 a.m. to (approximately) 3 p.m., open; 3 p.m. to 5 p.m., closed.

LOCATION: Room 100, 80 F St., NW., Washington, D.C. 20208-7564.

FOR FURTHER INFORMATION CONTACT: Thelma Leenhouts, Designated Federal Official, National Educational Research Policy and Priorities Board, Washington, D.C. 20208-7564. Tel.: (202) 219-2065; fax: (202) 219-1528; e-mail: Thelma_Leenhouts@ed.gov, or nerppb@ed.gov. The main telephone number for the Board is (202) 208-0692.

SUPPLEMENTARY INFORMATION: The National Educational Research Policy and Priorities Board is authorized by section 921 of the Educational Research, Development, Dissemination, and Improvement Act of 1994. The Board works collaboratively with the Assistant Secretary for the Office of Educational Research and Improvement (OERI) to forge a national consensus with respect to a long-term agenda for educational research, development, and dissemination, and to provide advice and assistance to the Assistant Secretary in administering the duties of the Office.

The Board will conduct outstanding business in open session and hear reports from the Assistant Secretary for OERI; on a proposed study by the National Academy of Sciences/National Research Council on the structure and content of the educational research agenda; and on a commissioned study on the Phase II standards designating promising and exemplary programs. The meeting will be closed to the public from approximately 3 p.m. to 5 p.m. under the authority of section 10(d) of the Federal Advisory Committee Act (Pub. L. 92-463; 5 U.S.C. Appendix I) and under exemptions (2) and (6) of section 552b (c) of the title 5 U.S.C. The Board will discuss personnel issues at this time.

A final agenda will be available from the Board office on September 15, and will be posted on the Board's web sit, http://www.ed.gov/offices/OERI/NERPPB/. A summary of activities at the closed session and related matters which are informative to the public consistent with the policy of title 5 U.S.C. 552b will be available to the public within 14 days of the meeting.

Records are kept of all Board proceedings and are available for public inspection at the office of the National Educational Research Policy and Priorities Board, Suite 100, 80 F St., NW., Washington, D.C. 20208-7564.

Dated: August 18, 2000.
Thelma Leenhouts,
Executive Officer.

[FR Doc. 00-21541 Filed 8-22-00; 8:45 am]

BILLING CODE 4000-01-M